DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before July 6, 2022.

ADDRESSES: You may submit comments identified by Docket No. MSHA-2022-0029 by any of the following methods:

1. Federal eRulemaking Portal: https://www.regulations.gov. Follow the instructions for submitting comments for MSHA-2022-0029.

2. Fax: 202-693-9441.

3. Email: petitioncomments@dol.gov.

4. Regular Mail or Hand Delivery: MSHA, Office of Standards, Regulations, and Variances, 201 12th Street South, Suite 4E401, Arlington, Virginia 22202-5452, Attention: S. Aromie Noe, Director, Office of Standards, Regulations, and Variances. Persons delivering documents are required to check in at the receptionist's desk in Suite 4E401. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2022-008-C.

Petitioner: Panther Creek Mining LLC, 250 West Main Street, Suite 2000, Lexington, Kentucky 40507.

Mine: Sycamore Surface Mine, MSHA ID No. 43-07058, located in Fayette County, West Virginia.

Regulation Affected: 30 CFR 75.1700, Oil and gas wells.

Modification Request: The petitioner requests a modification of 30 CFR 75.1700 to permit plugging a gas well.

The petitioner states that:

(a) The mine is located at Tom's Branch/Sycamore Creek of the Cabin Creek District.

(b) The Lower Chilton seam will be the last seam mined on the ridge, and the mining is projected to extend west towards the end of the ridge of the mine permit. Well # 70 is in the middle of the ridge and will impede the mining on the ridge if it is not plugged and mined through.

(c) The gas well depth extends approximately 3,800 feet below the Lower Chilton seam.

The petitioner proposes the following alternative method:

(a) Prior to plugging an oil or gas well, the following procedure for cleaning out and preparing oil and gas wells shall be followed:

(1) A diligent effort shall be made to clean the borehole to the original total depth. If this depth cannot be reached, the borehole shall be cleaned out to a depth which would permit the placement of at least 400 feet of expanding cement below the base of the lowest minable coalbed.

(2) When cleaning the borehole, a diligent effort shall be made to remove all the casing in the borehole. If it is not possible to remove all casing, the casing which remains shall be perforated, or ripped, at intervals spaced close enough to permit expanding cement slurry to infiltrate the annulus between the casing and the borehole wall for a distance of at least 200 feet below the base of the lowest minable coalbed.

(3) If the cleaned-out borehole produces gas, a mechanical bridge plug shall be placed in the borehole in a competent stratum at least 200 feet below the base of the lowest minable coalbed, but above the top of the uppermost hydrocarbon producing stratum. If it is not possible to set a mechanical bridge plug, a substantial brush plug may be used in place of the mechanical bridge plug.

(4) A suite of logs shall be made consisting of: a caliper survey directional deviation survey; and log(s) suitable for determining the top and bottom of the lowest minable coalbed and potential hydrocarbon producing strata and the location for the bridge plug.

(5) If the uppermost hydrocarbon-producing stratum is within 200 feet of the base of the lowest minable coalbed, properly placed mechanical bridge plugs or a suitable brush plug described in section (a)(3) shall be used to isolate the hydrocarbon producing stratum from the expanding cement plug. Nevertheless, a minimum of 200 feet of expanding cement shall be placed below the lowest minable coalbed.

(6) The wellbore shall be filled and circulated with a gel that inhibits any flow of gas, supports the walls of the borehole, and densities the expanding cement. This gel shall be pumped through open end tubing run to a point approximately 20 feet above the bottom of the cleaned-out area of the borehole or bridge plug.

(b) While gas or oil wells to the surface are plugged, the following procedures shall be utilized:

(1) A cement plug shall be set in the wellbore by pumping an expanding cement slurry down the tubing to displace the gel and fill the borehole to the surface. (As an alternative, the cement slurry may be pumped down the tubing so that the borehole is filled with Portland cement or a Portland cement/fly ash mixture from a point approximately 100 feet above the top of the lowest minable coalbed to the surface with an expanding cement plug extending from at least 200 feet below the lowest minable coalbed to the bottom of the Portland cement.) There shall be at least 200 feet of expanding cement below the base of the lowest mineable coalbed.

(2) A small quantity of steel turnings, or other small magnetic particles, shall be embedded in the top of the cement near the surface to serve as a permanent magnetic monument of the borehole.

(c) When the vent pipe method is used for plugging oil and gas wells, the following procedures shall be utilized:

(1) A 4½ inch or larger vent pipe shall be run into the wellbore to a depth of 100 feet below the lowest minable coalbed and be wedged to a smaller diameter pipe, if desired, which will extend to a point approximately 20 feet above the bottom of the cleaned-out area of the borehole or bridge plug.

(2) A cement plug shall be set in the wellbore by pumping an expanding cement slurry, Portland cement, or a Portland cement fly ash mixture down the tubing to displace the gel so that the borehole is filled with cement. The borehole and the vent pipe shall be filled with expanding cement for a minimum of 200 feet below the base of the lowest minable coalbed. The top of the expanding cement shall extend upward to a point approximately 100 feet above the top of the lowest minable coalbed.

(3) All fluid shall be evacuated from the vent pipe to facilitate testing for gases. During the evacuation of fluid, the expanding cement shall not be disturbed.

(4) The top of the vent pipe shall be protected to prevent liquids or solids from entering the wellbore but shall permit ready access to the full internal diameter of the vent pipe when necessary.

(d) The following procedures shall be utilized when oil or gas wells are plugged for subsequent use as degasification boreholes:

(1) A cement plug shall be set in the wellbore by pumping an expanding cement slurry down the tubing to displace the gel and provide at least 200 feet of expanding cement below the lowest minable coalbed. The top of the expanding cement shall extend upward to a point above the top of the coalbed being mined. This distance shall be based on the average height of the roof strata breakage for the mine.

(2) To facilitate methane drainage, degasification casing of suitable diameter, slotted or perforated throughout its lower 150 to 200 feet, shall be set in the borehole to a point 10 to 30 feet above the top of the expanding cement.

(3) The annulus between the degasification casing and the borehole wall shall be cemented from a point immediately above the slots or perforations to the surface.

(4) The degasification casing shall be cleaned out for its total length.

(5) The top of the degasification casing shall be fitted with a wellhead equipped as required by the District Manager. Such equipment may include check valves, shut in valves, sampling ports, flame arrestor equipment, and security fencing.

(e) The well-plugging procedures described in previous sections and the following cut through procedures apply whenever the petitioner reduces the safety barrier diameter to a distance less than the District Manager would approve, pursuant to 30 CFR 75.1700, or whenever the petitioner proceeds with an intent to cut through a plugged well:

(1) Prior to reducing the safety barrier to a distance less than the District Manager would approve pursuant to 30 CFR 75.1700 or proceeding with an intent to cut through a plugged well, the operator shall notify the District Manager or his designee.

(2) The MSHA District Manager or designee shall conduct a conference prior to mining through any plugged well to review and approve the specific procedures for mining through the well. Representatives of the operator, the representative of the miners, and the appropriate State agency shall be informed, within a reasonable time prior to the conference, and be given an opportunity to attend and participate. This meeting may be called by the operator.

(3) Mining through a plugged well shall be done on a shift approved by the District Manager or designee.

(4) The District Manager or designee, representative of the miners, and the appropriate State agency shall be notified by the operator in sufficient time prior to the mining through operation in order to have an opportunity to have representatives present.

(5) When using continuous mining equipment, drivage sights shall be installed at the last open crosscut near the place to be mined to ensure intersection of the well. The drivage sites shall not be more than 50 feet from the well. When using longwall mining methods, drivage sights shall be installed on 10-foot centers for a distance of 50 feet in advance of the well bore. The drivage sights shall be installed in the headgate and tailgate.

(6) Firefighting equipment, including the fire extinguishers, rock dust, and sufficient fire hoses that reach the working face area of the mining through shall be available when either the conventional or continuous mining method is used. The fire hoses shall be in the last open crosscut of the entry or room. All fire hoses shall be ready for operation during the mining through.

(7) Sufficient supplies of roof support and ventilation materials shall be available and located at the last open crosscut. In addition, an emergency plug and/or plugs shall be available in the immediate area of the mine through.

(8) At least the quantity of air required by the approved mine ventilation plan, but not less than 6,000 cubic feet of air per minute for scrubber equipped continuous miners or not less than 9,000 cubic feet per minute for continuous miner sections using auxiliary fans or line brattice only, shall be used to ventilate the working face during the mining through operation. The quantity of air required by the ventilation plan, but not less than 30,000 cfm, shall reach the working face of each longwall during the mine-through operation.

(9) Equipment shall be checked for permissibility and serviced on the shift prior to mining through the well and the water line maintained to the tail piece with enough fire hose to reach the farthest point of penetration on the section.

(10) The methane monitor on the continuous mining machine shall be calibrated on the shift prior to mining through the well.

(11) When mining is in progress, tests for methane shall be made with a handheld methane detector at least every 10 minutes from the time when the mining with the continuous mining machine is within 30 feet of the well until the well is intersected and immediately prior to mining through. When mining with longwall mining equipment, the tests for methane shall be made at least every 10 minutes when the longwall face is withing 30 feet of the well. During the actual cutting through process, no individual shall be allowed on the return side until mining through has been completed and the area has been examined and declared safe.

(12) When using continuous mining methods, the working place shall be free from accumulations of coal dust and coal spillages, and rock dust shall be placed on the roof, rib, and floor to within 20 feet of the face when mining through or near the well on the shift or shifts during which the cut through will occur. On longwall sections rock dusting shall be conducted and placed on the roof, rib, and floor up to both headgate and tailgate gob.

(13) When the wellbore is intersected, all equipment shall be deenergized and the place thoroughly examined and determined safe before mining is resumed. Any well casing shall be removed, and no open flame shall be permitted in the area until adequate ventilation has been established around the wellbore.

(14) After a well has been intersected and the working place determined safe, mining shall continue in-by the well a sufficient distance to permit adequate ventilation around the area of the wellbore.

(15) No person shall be permitted in the area of the mining-through operation except those engaged in the operation, company personnel, representatives of the miners, personnel from MSHA, and personnel from the appropriate State agency.

(16) The mining-through operation shall be under the direct supervision of a certified official. Instructions concerning the mining-through operation shall be issued only by the certified official in charge.

(17) MSHA personnel may interrupt or halt the mining-through operation when it is necessary for the safety of the miners.

(18) A copy of the petition shall be maintained at the mine and be available to the miners.

(19) The Petitioner shall file a plugging affidavit setting forth the persons who participated in the work, a description of the plugging work, and a certification by the Petitioner that the well has been plugged as described.

(20) The Petitioner shall submit proposed revisions for its approved 30 CFR 48 training plan to the Coal Mine Safety and Health District Manager. These proposed revisions shall include initial and refresher training.

(f) This petition for modification applies to all types of mining such as continuous miner sections continuous mining utilizing mobile bridge, and longwall.

The petitioner asserts that the alternative method proposed will at all times guarantee no less than the same measure of protection afforded the miners under the mandatory standard.

Song-ae Aromie Noe,
Director, Office of Standards, Regulations, and Variances.

[FR Doc. 2022-12040 Filed 6-3-22; 8:45 am]

BILLING CODE 4520-43-P